GENERAL SERVICES ADMINISTRATION

[Notice-PBS-2024-04; Docket No. 2024-0002; Sequence No. 9]

Notice of Availability for a Final Supplemental Environmental Impact Statement and Floodplain Assessment and Statement of Findings for the International Falls Land Port of Entry Modernization and Expansion Project in International Falls, Minnesota

AGENCY: Public Buildings Service (PBS), General Services Administration (GSA).

ACTION: Notice of Availability (NOA); Public Notice of Floodplain Assessment and Statement of Findings.

SUMMARY: This notice announces the availability of the Final Supplemental Environmental Impact Statement (SEIS), which examines potential environmental impacts from the modernization and expansion of the International Falls Land Port of Entry (LPOE) in International Falls, Minnesota. The existing International Falls LPOE is owned and managed by GSA and is operated by the U.S. Department of Homeland Security's Customs and Border Protection (CBP). The Final SEIS describes the purpose and need for the project; alternatives considered; the existing environment that could be affected; the potential impacts resulting from each of the alternatives; and proposed mitigation commitments. The Final SEIS also includes a Floodplain Assessment and Statement of Findings as a result of construction in a floodplain at the International Falls LPOE. Based on impacts analyses and public comments, GSA has identified Alternative 1 (Full Build) as described in the Final SEIS as its preferred alternative. Alternative 1 has also been identified as the environmentally preferred alternative.

DATES: The Final SEIS Wait Period begins with publication of this NOA in the Federal Register and will last until Monday, May 20, 2024. Written comments must be received by the last day of the Wait Period (see ADDRESSES section of this NOA on how to submit comments). After the Wait Period, GSA will issue the Record of Decision (ROD).

ADDRESSES: Members of the public may submit comments by one of the following methods. All comments will be considered equally and will be part of the public record.

• Email: michael.gonczar@gsa.gov. Please include `International Falls LPOE SEIS' in the subject line of the message.

• Mail: ATTN: Michael Gonczar, International Falls LPOE SEIS; U.S. General Services Administration, Region 5; 230 S. Dearborn Street, Suite 3600, Chicago, IL 60604.

FOR FURTHER INFORMATION CONTACT: Questions or comments on the Final SEIS should be directed to: Michael Gonczar, NEPA Program Manager, GSA, at 312-810-2326, or via email to michael.gonczar@gsa.gov. See ADDRESSES section of this NOA on how to submit comments.

Additional information and an electronic copy of the Final SEIS, may be found online on the following website: https://www.gsa.gov/about-us/gsa-regions/region-5-great-lakes/buildings-and-facilities/minnesota/international-falls-land-port-of-entry.

SUPPLEMENTARY INFORMATION: The Final SEIS has considered previous input provided during the scoping and Draft SEIS comment periods.

Background

The existing 1.6-acre LPOE is located on the south bank of the Rainy River and serves as the port of entry to people and vehicles crossing the International Bridge that connects International Falls, Minnesota to the town of Fort Frances, Ontario, Canada. The International Falls Land Port of Entry Improvements Study Final EIS, released in 2011, assessed the potential environmental impacts associated with the proposed action of replacing the undersized International Falls LPOE with a new LPOE facility “to improve safety, security, and functionality.” A total of ten build alternatives were considered, and a preferred action alternative was identified. This alternative would consist of demolishing the existing building, constructing new facilities at the existing LPOE, and expanding the LPOE to meet the required space standards and increased security requirements of the Federal Inspection Services. This alternative would move the majority of the LPOE improvements and operations to an approximately 20-acre site southeast of the existing site between 4th Street and Rainy River. GSA signed and released a ROD in January 2012 that identified a preferred alternative as it best satisfied the purpose and needs of the project with the least overall adverse impacts to the environment. The ROD stated that the preferred alternative would have less-than-significant impacts on the natural and social environment of the study area and International Falls, including minor changes or impacts to surface water, surface water runoff, traffic, increased lighting, and hazardous substances.

Since 2011, GSA has identified the following changes to the project, which differ from the preferred alternative described in the 2011 EIS:

• There have been proposed changes in tenants and use of the space. The U.S. Food and Drug Administration and the U.S. Department of Agriculture/Animal Plant Health Inspection Services/-Plant Protection and Quarantine (USDA/APHIS-PPQ) will need space and facilities at the LPOE.

• The Packaging Corporation of America (PCA) has acquired Boise, Inc. and has a different timber unloading operation occurring adjacent to the proposed acquisition parcel, which will require modifications to the original site plan at the LPOE and offsite on PCA lands.

• A section of First Creek between Route 11 and the Rainy River that was previously contained in a culvert was identified following the 2011 EIS. The culvert has been removed and is now daylighted, requiring impacts analysis.

• There has been an increase in the proposed usable square feet (USF) for overall building space needed, based on the addition of a maintenance building and expansion in the sizes of all other buildings per updated agency requirements.

• Stormwater management would be redesigned in the 300-foot section of First Creek due to two new areas of pavement crossing the creek or installation of a new culvert.

• The Resolute Paper Mill in Fort Frances, Ontario has since closed and rail traffic across the bridge has ceased.

• New renewable energy technologies are being considered for implementation at the expanded and modernized LPOE, including solar and geothermal technologies.

• New LPOE access points for privately owned vehicles (POVs) and pedestrians are being considered. After publication of the Draft SEIS, the proposed location of the LPOE access point for POVs and pedestrians shifted from a point on Highway 53 and 2nd Street to points located near or at the proposed commercially owned vehicle (COV) access point on State Route 11 due to site constraints.

GSA has prepared a Final SEIS to assess the potential impacts of these updates, which were not assessed in the 2011 EIS.

Alternatives Under Consideration

The Proposed Action, defined as Alternative 1 (Full Build) in the Final SEIS and GSA's preferred alternative, would consist of modernization and expansion of existing International Falls LPOE facilities as previously considered in the 2011 EIS, but to consider the above project changes. GSA also considered the No Action Alternative, which assumes that GSA would not expand or modernize the International Falls LPOE.

The purpose of the Proposed Action is for GSA to support CBP's mission by bringing the International Falls LPOE operations in line with current land port design standards and operational requirements of CBP while addressing existing deficiencies identified with the ongoing port operations. Generally, the deficiencies described in the 2011 EIS remain at the LPOE. The deficiencies fall into two broad categories: deficiencies in the overall site layout and substandard building conditions. Therefore, in order to bring the International Falls LPOE operations in line with CBP's design standards and operational requirements, the Proposed Action is needed to (1) improve the capacity and functionality of the International Falls LPOE to meet future demand, while maintaining the capability to meet border security initiatives; (2) address spatial and layout constraints that lead to traffic congestion and safety issues for the employees and users of the LPOE; and (3) provide adequate space and facilities for the federal agencies to accomplish their missions.

The Final SEIS addresses the potential environmental impacts of the proposed alternatives on environmental resources including geology and soils, water resources, biological resources, air quality, noise, transportation and traffic, land use and visual resources, infrastructure and utilities, socioeconomics, cultural resources, human health and safety, and environmental justice. Additionally, findings from maritime and terrestrial surveys are included in the cultural resources discussion, and findings from the Phase II Environmental Site Assessment are included in the human health and safety discussion. Based on the analysis presented in the Final SEIS, adverse impacts to transportation and traffic, land use and visual resources, and human health and safety may experience major adverse impacts due to an increase in traffic conflicts between vehicles and bikers/pedestrians along the Rainy Lake Bike Trail. Impacts for the remaining resource areas would be less-than-significant (i.e., negligible, minor, or moderate), adverse or beneficial. Impact reduction measures to reduce potential adverse effects are presented in the Final SEIS.

GSA is currently undergoing formal consultation with the State Historic Preservation Officer (SHPO) and consulting parties to follow coordination procedures as required under Section 106 of the NHPA to determine impacts to historic properties. Mitigation measures may be determined in consultation between GSA, SHPO, and applicable consulting parties.

Under the Endangered Species Act (ESA), GSA coordinated with the U.S. Fish and Wildlife Service (USFWS) per Section 7 requirements to determine effects to federally protected species. There would be no adverse effects to federally threatened or endangered species. Correspondence with USFWS and the findings are incorporated in the Final SEIS.

The Proposed Action would take place within the 1-percent-annual-chance floodplain and 0.2-percent-annual-chance floodplain at the International Falls LPOE. In compliance with Executive Order 11988 (Floodplain Management), GSA prepared a Floodplain Assessment and Statement of Findings addressing potential impacts on floodplains, which is included in the Final SEIS. As described in the Final SEIS, GSA would follow federal, state, and local regulatory compliance requirements and incorporate design standards at the International Falls LPOE to minimize impacts to floodplains.

William Renner,
Director, Facilities Management and Services Programs Division, Great Lakes Region 5, U.S. General Services Administration.

[FR Doc. 2024-07949 Filed 4-15-24; 8:45 am]

BILLING CODE 6820-CF-P